DEPARTMENT OF DEFENSE

Office of the Secretary

National Commission on the Future of the Army; Notice of Federal Advisory Committee Meeting

AGENCY: Deputy Chief Management Officer, Department of Defense (DoD).

ACTION: Notice of Federal Advisory Committee Meeting.

SUMMARY: The DoD is publishing this notice to announce a meeting of the National Commission on the Future of the Army (“the Commission”). The meeting will be closed to the public.

DATES: Date of the Closed Meeting: Wednesday, January 13, 2016, from 8:00 a.m. to 5:00 p.m.

ADDRESSES: Address of Closed Meeting, January 13, 2016: Rm 12110, 12th Floor, Zachary Taylor Building, 2530 Crystal Dr., Arlington, VA 22202.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meetings:

During the closed meeting on Wednesday, January 13, 2016, the Commission will review the comments from the OSD security review about the draft Commission report.

Agendas:

January 13, 2016—Closed Meeting: The Commission will hold a closed meeting to review the Commission's report for content after recommend edits from the OSD security review. All presentations and resulting discussion are classified.

Meeting Accessibility:

In accordance with applicable law, 5 U.S.C. 552b(c) and 41 CFR 102-3.155, the DoD has determined that the meeting scheduled for January 13, 2016 will be closed to the public. Specifically, the Assistant Deputy Chief Management Officer, with the coordination of the DoD FACA Attorney, has determined in writing that this meeting will be closed to the public because it will discuss matters covered by 5 U.S.C. 552b(c)(1).

Written Comments:

Pursuant to section 10(a)(3) of the FACA and 41 CFR 102-3.105(j) and 102-3.140, the public or interested organizations may submit written comments to the Commission in response to the stated agenda of the closed meeting or the Commission's mission. The Designated Federal Officer (DFO) will review all submitted written statements. Written comments should be submitted to Mr. Donald Tison, DFO, via facsimile or electronic mail, the preferred modes of submission. Each page of the comment must include the author's name, title or affiliation, address, and daytime phone number. All comments received before Tuesday, January 12, 2016, will be provided to the Commission before the January 13, 2016, meeting. All contact information may be found in the FOR FURTHER INFORMATION CONTACT section.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: December 22, 2015.
Aaron Siegel,
Alternate OSD Federal Register Liaison Officer, Department of Defense.

[FR Doc. 2015-32665 Filed 12-28-15; 8:45 am]

BILLING CODE 5001-06-P